DEPARTMENT OF VETERANS AFFAIRS

Special Medical Advisory Group; Notice of Meeting

The Department of Veterans Affairs (VA) gives notice under the Federal Advisory Committee Act that the Special Medical Advisory Group will meet on June 6, 2018 from 2:30 p.m.-4:30 p.m. ET. This meeting will be virtual. Members of the public can join—please contact brenda.faas@va.gov or call 202-461-7005 to obtain dial in information and confirm your attendance. All must identify themselves when they join the call. In accordance with Federal Advisory Committee Act (1972), we must keep a record of attendance.

The purpose of the committee is to advise the Secretary of Veterans Affairs and the Under Secretary for Health on the care and treatment of Veterans, and other matters pertinent to the Veterans Health Administration (VHA).

The agenda for the meeting will focus on VHA Modernization. There will not be a public comment period. If any member of the public would like to submit comments for the committee to consider at this meeting, please submit in writing to brenda.faas@va.gov or by mail: Attn Brenda R. Faas, Department of Veterans Affairs, (10B), Veterans Health Administration, 810 Vermont Avenue NW, Washington, DC 20420. Comments will be accepted until close of business June 7, 2018.

Dated: May 29, 2018.
LaTonya L. Small,
Federal Advisory Committee Management Officer.

[FR Doc. 2018-11767 Filed 5-31-18; 8:45 am]

BILLING CODE 8320-01-P